DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 7, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Importation of Live Swine, Pork and Pork Products, and Swine Semen from the European Union.

OMB Control Number: 0579-0218.

Summary of Collection: The Animal Health Protection Act (AHPA) of 2002 is the primary Federal law governing the protection of animal health. The Law gives the Secretary of Agriculture broad authority to detect, control, or eradicate pests or diseases of livestock or poultry. The AHPA is contained in title X, subtitle E, sections 10401-18 of Public Law 107-171, dated May 13, 2002, the Farm Security and Rural Investment Act of 2002. Disease prevention is the most effective method to maintain a healthy animal population and for enhancing the United States' ability to compete in the world market of animal and animal product trade.

The Animal and Plant Health Inspection Service (APHIS) regulates the importation of animals and animal products into the United States to guard against the introduction of animal diseases not present or prevalent here.

Need and Use of the Information: APHIS will collect information using an Application for Import or in Transit Permit, concerning the origin and history of the items destined for importation into the United States. APHIS will also collect information to ensure that swine, pork and pork products, and swine semen pose a negligible risk of introducing exotic swine diseases into the United States. A Declaration of Importation form is also used to collect information in this collection. Collecting this information less frequently or failing to collect it would increase the chances of CSF and other swine diseases being introduced into the United States.

Description of Respondents: Foreign federal governments and businesses.

Number of Respondents: 16.

Frequency of Responses: Reporting: On occasion.

Total Burden Hours: 7,230.

Levi S. Harrell,
Departmental Information Collection Clearance Officer.

[FR Doc. 2024-02300 Filed 2-5-24; 8:45 am]

BILLING CODE 3410-34-P